DEPARTMENT OF COMMERCE

National Oceanic and Atmospheric Administration

[Docket No. 000531162-0168-02; I.D. 040400B]

RIN 0648-AN49

New England Fishery Management Council; Notice and Request for Sea Scallop Research Proposals

AGENCY: National Marine Fisheries Service (NMFS), National Oceanic and Atmospheric Administration (NOAA), Commerce.

ACTION: Notice of solicitation for applications.

SUMMARY: NMFS issues this document to describe how you, the researcher, may be selected to perform sea scallop research projects funded by a 1-percent set aside of the scallop total allowable catch (TAC) under Framework Adjustment 13 to the New England Fishery Management Council's (Council's) Atlantic Sea Scallop Fishery Management Plan (FMP) and Framework Adjustment 34 to the Council's Northeast Multispecies FMP (Frameworks 13/34) and how NOAA and the Council will determine whether to select your proposal. Framework 13/34 proposes to allow scallop vessels temporary access to the groundfish closed areas on Georges Bank and Nantucket Shoals to harvest sea scallops and will allow selected vessels to land scallops in excess of the trip limit or take additional trips and use the proceeds of the catch or additional trips to offset the costs of the research proposals submitted in response to this notification. Pending approval by NOAA, certain scallop vessels during the 2000 scallop fishing year will be allowed in Closed Area II, the Nantucket Lightship Area, and Closed Area I for periods of time to be specified in the final rule implementing the framework action. Frameworks 13 and 34, if approved by NOAA, would allow for three trips per vessel in Closed Area II, one trip per vessel in the Nantucket Lightship Area, and two trips per vessel in Closed Area I, unless modified by action taken by the Regional Administrator, Northeast Region, NMFS (Regional Administrator).

In anticipation of final approval of these framework adjustments, NOAA, in cooperation with the Council, is soliciting proposals for sea scallop research activities. Vessels participating in an approved project and fishing in the closed areas would be authorized by the Regional Administrator to take additional trips into the closed areas and/or to land scallops in excess of the 10,000-lb (4,536-kg) trip limit allowed for all closed area trips.

DATES: All research proposals to be conducted with TAC set aside funds from Closed Area II must be received between June 13, 2000 and no later than 5:00 p.m., local time, on June 28, 2000, in the office listed in the ADDRESSES section of this document. Postmarks will not be sufficient. Facsimile applications will not be accepted.

For further information related to the timeframe for review and selection of proposals to be conducted with TAC set aside funds from Closed Area II and for information related to the TAC set aside for research proposals for Closed Area I and the Nantucket Lightship Closed Area, see Section A, Background, under SUPPLEMENTARY INFORMATION of this document.

ADDRESSES: Proposals must be submitted to Patricia A. Kurkul, Regional Administrator, NMFS, Northeast Regional Office, 1 Blackburn Drive, Gloucester, MA 01930. Marked “Attention—Sea Scallop Research Proposals.”

FOR FURTHER INFORMATION CONTACT: Patricia M. Fiorelli, New England Fishery Management Council, (978) 465-0492 or David Gouveia, National Marine Fisheries Service, (978) 281-9280.

SUPPLEMENTARY INFORMATION:

A. Background

All research proposals to be conducted with TAC set aside funds from Closed Area II must be received during the period identified in the DATES section of this document. Prior to selection, applications may be reviewed and evaluated by the Council at the request of NOAA and become subject to public review as part of an open public comment process at the Council meeting. If it is determined that the Council should evaluate the proposals in a public meeting, the Council anticipates that the review will occur on or about June 30, 2000. Subsequently, the Council will provide its recommendations to NOAA no later than July 7, 2000. Researchers may submit proposals for sea scallop research to be conducted with TAC set-aside funds from the Nantucket Lightship Closed Area and Closed Area I during the June 13, 2000 to June 28, 2000 submission period; however, a second Request for Proposal will be published in the Federal Register concerning the harvest of research set aside scallops from these areas at a later date. All proposals received for TAC set-aside funds from the Nantucket Lightship Closed Area and Closed Area I will be kept on file and reviewed against other proposals received as a result of a future notice. Researchers may amend proposals submitted under this notice for TAC set-aside funds from the Nantucket Lightship Closed Area and Closed Area I during the request for proposal period specified in a future notice.

The TAC set-aside for sea scallop research would total 191,000 lb (86,637.6 kg) of scallops and have an estimated value of $955,000. The TAC for the sea scallop research by area would be as follows: Closed Area II, 66,000 lb (29,937.6 kg); the Nantucket Lightship Area, 55,000 lb (24,948 kg); and Closed Area I, 70,000 lb (31,752 kg).

B. Authority

Issuing grants is consistent with §§ 402(e), 303(b)(11), 304(e), and 404(c) of the Magnuson-Stevens Fishery Conservation and Management Act.

C. Catalog of Federal Domestic Assistance (CFDA)

11.454, Unallied Management Projects

D. Funding Instrument and Project Period

We will award a grant through the NOAA grant award process to successful applicants. The project period for sea scallop research is June 15, 2000, through June 15, 2001.

E. Funding Availability

No Federal funds are provided for sea scallop research under this notification. The Federal Government's contribution to the project will be a Letter of Authorization that will provide special fishing privileges in response to sea scallop research proposals selected to participate in this program. The Federal Government shall not be liable for any costs incurred in the conduct of the project. The funds generated from the additional landings authorized in the Letter of Authorization shall be used to cover the cost of the sea scallop research, including vessel costs, and to compensate vessel owners for expenses incurred. Therefore, the owner of each fishing vessel selected to land scallops in excess of the trip limit or from additional authorized trips must use the proceeds of the sale of the excess catch to compensate the researcher for costs associated with the research activities and use of the vessel. Any additional funds above the cost of the research activities (or excess program income) shall be retained by the vessel owner as compensation for the use of his/her vessel.

F. Scope of Sea Scallop Research

Projects funded under the sea scallop TAC set aside program should enhance understanding of the scallop resource or contribute to the body of information on which management decisions are made. Sea scallop research may be conducted in or outside of a closed area, within or outside of the Sea Scallop Exemption Program timeframe, and onboard a fishing or other type of vessel. Sea scallop research conducted with these TAC set-aside funds also may or may not involve the harvest of scallops.

Funds generated from the set-aside landings shall be used to cover the cost of the research activities, including vessel costs, and to compensate boats for expenses incurred during the collection of set-aside scallops. For example, they could be used to pay for gear modifications, monitoring equipment, additional provisions (e.g., fuel, ice, food for scientists) or the salaries of research personnel. The Federal Government is not liable for any costs incurred by the researcher or vessel owner should the sale of the excess catch not fully reimburse the researcher or vessel owner for their expenses.

G. Eligibility Criteria

All for-profit and non-profit institutions; state, local or tribal governments; educational institutions; institutions of higher education; and individuals are eligible to apply provided that all proposal requirements are satisfied and the proposal is received by the date specified in this notice.

Pursuant to Executive Orders 12876, 12900, and 13021, the Department of Commerce, National Oceanic and Atmospheric Administration (DOC/NOAA) is strongly committed to broadening the participation of Historically Black Colleges and Universities, Hispanic Serving Institutions and Tribal Colleges and Universities in its educational and research programs. The DOC/NOAA vision, mission and goals are to achieve full participation by Minority Serving Institutions (MSIs) in order to advance the development of human potential, to strengthen the nation's capacity to provide high-quality education, and to increase opportunities for MSIs to participate in, and benefit from, Federal Financial Assistance programs. DOC/NOAA encourages all applicants to include meaningful participation of MSIs.

H. Proposal Requirements

Proposals must be submitted to NOAA and must identify the sea scallop research to be conducted and the total amount of scallops requested for the project, including their approximate cash value. Additionally, each proposal must identify the requirements for the participating vessel(s) that would make a closed area trip to collect the scallop set aside. The vessel selected by the applicant should be listed in the proposal, if possible, or specifically identified prior to final approval by NOAA. Proposals may request that the scallop set-aside be collected separately from the sea scallop research trip or other related research trip. The separate sea scallop research compensation trips do not necessarily have to be conducted by the same vessel. The Council or NMFS contact person may provide assistance to researchers who are seeking vessels to participate in the collection of set aside scallops or directly in research projects. The Council or NMFS may publish a list of those vessel owners willing to participate through their respective homepages.

The researcher's proposal must state the amount of funds required to support the research project, as well as the amount required to compensate the vessel owner either for the collection of set aside scallops or for participation in the research project, or both. The proposal must also include the agreement between the vessel owner and researcher that shows exactly how the research activity is to be paid for, if possible, or provided prior to final approval by NOAA.

I. Project Evaluation and Approval

As stated earlier, applications may be reviewed and evaluated by the Council at the request of NOAA and become subject to public review as part of an open public comment process at the Council meeting. In the event that an application contains information or data which the applicant does not want disclosed prior to award for purposes other than the evaluation of the application, the applicant should mark each page containing such information or data with the words

“Privileged Information/Confidential/Commercial or Financial Information—Limited Use” at the top of the page to assist NOAA in making disclosure determinations when submitting information to the Council for review. DOC regulations implementing the Freedom of Information Act (FOIA) are found at 15 CFR Part 4, “Public Information,” which sets forth rules for DOC to make requested materials, information, and records publicly available under the FOIA. To the extent permitted under the FOIA, the contents of applications and proposals submitted by successful applicants may be released in response to FOIA requests.

J. Project Funding Priorities

Sea scallop research projects that identify and evaluate gear to reduce groundfish bycatch and habitat impacts and that provide improved information concerning scallop abundance estimates are considered high priority by the Council. Sea scallop research that involves evaluating the distribution, size composition, and density of scallops in the closed areas prior to the open periods also will be considered high priority. Other research needs are described in this section (not listed in order of priority) and also will be considered by the Council and NOAA.

1. Evaluation of ways to control predation on scallops;

2. Sea scallop research to actively manage spat collection and seeding;

3. Social and economic impacts and consequences of closing areas to enhance productivity and improve yield for scallops and other species;

4. High resolution surveys that include distribution, recruitment, mortality and growth rate information;

5. Estimation of factors affecting fishing power for each limited access vessel;

6. Demonstration projects to identify ways to reduce discard mortality, increase efficiency without increasing fishing power (e.g., decreasing processing time with sorters) and improve safety;

7. Sea scallop research to identify scallop habitat and ecological relationships that affect reproduction, recruitment mortality and growth, including those enhanced/impeded by area closures;

8. Quantification of fishing costs related to fishing in specific areas (e.g., fishing gear modification, steaming time, and opportunity cost);

9. Experimental designs with control areas using alternative management strategies, such as area licensing and rotational closures (projects should include an analysis of yield improvement, habitat impacts and social impacts, including conflict resolution across fisheries);

10. Identification of fishermen's perceptions about area-based management and alternative strategies;

11. Processing and analyzing of data that will be collected or that have already been collected;

12. Broader investigations of variability in dredging efficiency across habitats (substrates, current velocities, etc.) times, areas, and gear designs; and

13. Sea scallop research that provides more detailed scallop life history information (especially on age-and-area specific natural mortality and growth) and to identify stock-recruitment relationships.

K. Evaluation Criteria

Independent technical experts may be asked to participate in the evaluation process. Proposals will be evaluated based on the assigned score for each of the following criteria:

1. A clear definition of the problem, need, issue or hypothesis to be addressed (10 points);

2. A clear definition of the approach to be used, including theoretical studies, laboratory analyses, and/or field work (15 points);

3. Adequate justification as to how the project is likely to achieve its stated objectives (20 points);

4. Identification of anticipated benefits, potential users and methods of disseminating results (10 points);

5. Relevance of the project to the research needs identified by the Council (20 points);

6. Demonstration of support, cooperation and/or collaboration with the fishing industry (15 points); and

7. Cost-effectiveness of the project (10 points).

L. Selection Procedures

If the Council participates in the selection process, the Council's Research Steering Committee will evaluate each research proposal based on the criteria identified in this notification and make recommendations for selection to the Council. The Council will then make its recommendations to the Regional Administrator based on the Research Steering Committee recommendations. NOAA must then consider the Council's recommendations, provide final approval of the projects and authorize selected vessel(s) to exceed the possession limit, take additional trips or be exempt from other regulations specified in the Sea Scallop FMP through written notification to the applicant. Because NOAA will take into account program policy factors such as time of year the research activities are to be conducted, administrative functions including evaluations of proposals through the Experimental Fishery Procedures contained in 50 CFR 600.745 and 648.12, and logistic concerns, projects may not be selected in the order recommended by the Council.

If the Council does not participate in the evaluation of the proposals, NOAA will convene a review panel to evaluate the proposals using the same criteria and scoring process. Based on the recommendation of the members of this panel and program policy factors identified in this notification, NOAA would provide final approval and authorize vessels to participate in the sea scallop research projects. All sea scallop research must be conducted in accordance with provisions approved by NOAA and provided in a Letter of Authorization issued by NMFS.

M. Proposal Format

Proposals should be limited to 6 pages, excluding item 5. The format may vary but must include:

1. A project summary;

2. A narrative project description to include: (a) Project goals and objectives; (b) the relationship of the proposed project to management needs or priorities identified by the New England Fishery Management Council; (c) a statement of work (project design and management—who is responsible, expected products, participants other than applicant); and (d) a summary of the existing state of knowledge related to project and contribution and relevance of the proposed work;

3. A description of all funding sources (including revenues derived from the sale of scallops harvested under the research TAC set aside) and funding needs; this element of the proposal must include the amount of scallop TAC set aside requested and the expected funds to be generated by the sale of those scallops; also the expected percentage of funds to be allocated to the researcher and any involved fishing vessel;

4. A budget that includes a breakdown of costs (permit costs, equipment, supplies, overhead); applicants must submit a Standard Form 424 “Application for Federal Assistance” including a detailed budget using Standard Form 424A, “Budget Information— Non-Construction Programs,” Standard Form 424B, “Assurances—Non-Construction Programs,” and Commerce Department Form CD-511, “Certifications Regarding Debarment, Suspension and Other Responsibility Matters: Drug Free Workplace Requirements and Lobbying.” Copies of these Standard Forms may be found on the Internet in a PDF (Portable Document Format) version at http://www.whitehouse.gov/OMB/grants/index.html under the title “Grants Management Forms,” or by contacting the New England Fishery Management Council office; and

5. Supporting documents (resumes, cooperative research agreements, contracts, etc.).

N. Final Reports

NOAA or the Council will require project researchers to submit an interim and/or final report describing their research project results, or other acceptable deliverable(s), in a timeframe that is specific to the type of research conducted. The format of the final report may vary, but must contain:

1. A brief summary of the final report;

2. A description of the issue/problem that was addressed;

3. A detailed description of methods of data collection and analyses;

4. A discussion of results and any relevant conclusions presented in a format that is understandable to a non-technical audience; this should include benefits and/or contributions to management decision-making;

5. A list of entities, firms or organizations that actually performed the work and a description of how that was accomplished; and

6. A detailed final accounting of all funds used to conduct sea scallop research, and including those provided through the research set-aside. The financial information must be submitted on Office of Management and Budget Standard Form-269. Copies of this Standard Form may be found on the Internet in a PDF (Portable Document Format) version at http://www.whitehouse.gov/OMB/grants/index.html under the title AGrants Management Forms,@ or by contacting the New England Fishery Management Council office.

O. Other Requirements

Evaluations of the impacts of sea scallop research, which involve exemptions to the current fishing regulations, other than those stated in Sea Scallop FMP, will be made by NMFS. Vessels conducting certain types of sea scallop research requiring relief from fishery regulations may be required to obtain an Exempted Fishing Permit (EFP). To apply for an EFP, interested parties must submit an application to NMFS at least 60 days before the effective date of the EFP. Additional time could be necessary for NMFS to make a determination about the need for an Environmental Assessment. If required, preparation of this document may be the responsibility of the researcher.

P. Other Requirements of Recipients

1. Federal Policies and Procedures

Recipients and subrecipients are subject to all Federal laws and Federal and DOC policies, regulations, and procedures applicable to Federal financial assistance awards.

2. Past Performance

Unsatisfactory performance under prior Federal awards may result in a proposal not being selected.

3. Delinquent Federal Debt

A proposal submitted by an applicant who has an outstanding delinquent Federal debt is not eligible for selection until either:

i. The delinquent account is paid in full,

ii. A negotiated repayment schedule is established and at least one payment is received, or

iii. Other arrangements satisfactory to DOC are made.

4. Name Check Review

All non-profit and for-profit applicants are subject to a name check review process. Name checks are intended to reveal if any key individuals associated with the applicant have been convicted of or are presently facing criminal charges such as fraud, theft, perjury, or other matters which significantly reflect on the applicant's management honesty or financial integrity.

5. Primary Applicant Certifications

All primary applicants must submit a completed Form CD-511, “Certifications Regarding Debarment, Suspension and Other Responsibility Matters; Drug-Free Workplace Requirements and Lobbying,” and the following explanations are hereby provided:

i. Nonprocurement Debarment and Suspension. Prospective participants (as defined at 15 CFR 26.105) are subject to 15 CFR part 26, “Nonprocurement Debarment and Suspension” and the related section of the certification form prescribed above applies;

ii. Drug-Free Workplace. Grantees (as defined at 15 CFR 26.605) are subject to 15 CFR part 26, subpart F, “Governmentwide Requirements for Drug-Free Workplace (Grants)” and the related section of the certification form prescribed above applies;

iii. Anti-Lobbying. Persons (as defined at 15 CFR 28.105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000; and

iv. Anti-Lobbying Disclosures. Any applicant that has paid or will pay for lobbying using any funds must submit an SF-LLL, “Disclosure of Lobbying Activities,” as required under 15 CFR part 28, appendix B.

6. Lower Tier Certifications

Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form, SF-LLL, “Disclosure of Lobbying Activities.” Form CD-512 is intended for the use of recipients and should not be transmitted to DOC. SF-LLL submitted by any tier recipient or subrecipient should be submitted to DOC in accordance with the instructions contained in the award document.

7. False Statements

A false statement on an application is grounds for denial or termination of funds and grounds for possible punishment by a fine or imprisonment as provided in 18 U.S.C. 1001.

8. Preaward Activities

If you incur any costs prior to receiving an award agreement signed by an authorized NOAA official, you do so solely at your own risk of these costs not being included under the award. Notwithstanding any verbal or written assurance that you may have received, preaward costs are not allowed under the award unless the grants officer approves them in accordance with 15 CFR 14.28.

9. Future Awards

If we select your application to perform sea scallop research to be conducted with the scallop TAC set aside, we have no obligation to provide any additional TAC set-aside obligations in connection with that award.

Classification

Prior notice and opportunity for public comments are not required by the Administrative Procedure Act or any other law for this notice concerning grants, benefits, and contracts.

Because a general notice of proposed rulemaking as specified in 5 U.S.C. 533, or any other law, was not required for this action, the analytical requirements of the Regulatory Flexibility Act, 5 U.S.C. 601 et seq., are not applicable.

This document contains collection of information requirements subject to the Paperwork Reduction Act (PRA). The standard application forms have been approved by the Office of Management and Budget (OMB) under control numbers 0348-0043 and 0348-0044. Notwithstanding any other provision of law, no person is required to respond to, nor shall any person be subject to a penalty for failure to comply with, a collection of information subject to the PRA, unless that collection displays a currently valid OMB control number.

Applications under this program are subject to Executive Order 12372, “Intergovernmental Review of Federal Programs.”

This action has been determined to be not significant for purposes of E.O. 12866.

Dated: June 7, 2000.
William Fox,
Acting Assistant Administrator for Fisheries, National Marine Fisheries Service.

[FR Doc. 00-14856 Filed 6-8-00; 2:59 pm]

BILLING CODE 3510-22-F